DEPARTMENT OF COMMERCE

Foreign-Trade Zones Board

[Order No. 2059]

Reorganization and Expansion of Foreign-Trade Zone 135 Under Alternative Site Framework; Palm Beach, Florida

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, the Port of Palm Beach District, grantee of Foreign-Trade Zone 135, submitted an application to the Board (FTZ Docket B-12-2018, docketed February 9, 2018) for authority to reorganize and expand under the ASF with a service area of Palm Beach County, Martin County and St. Lucie County (with the exception of Sites 1 through 4 of FTZ 218, which are located in St. Lucie County), in and adjacent to the West Palm Beach Customs and Border Protection port of entry, and FTZ 135's existing Sites 1, 4, 5, 6 and 8 would be categorized as magnet sites and Sites 2, 3, 7, 9, 10, 11 and 12 would be categorized as usage-driven sites;

Whereas, notice inviting public comment was given in the Federal Register (83 FR 7451-7452, February 21, 2018) and the application has been processed pursuant to the FTZ Act and the Board's regulations; and,

Whereas, the Board adopts the findings and recommendations of the examiner's report, and finds that the requirements of the FTZ Act and the Board's regulations are satisfied;

Now, therefore, the Board hereby orders:

The application to reorganize and expand FTZ 135 under the ASF is approved, subject to the FTZ Act and the Board's regulations, including Section 400.13, to the Board's standard 2,000-acre activation limit for the zone, to an ASF sunset provision for magnet sites that would terminate authority for Sites 4, 5, 6 and 8 if not activated within five years from the month of approval, and to an ASF sunset provision for usage-driven sites that would terminate authority for Sites 2, 3, 7, 9, 10, 11 and 12 if no foreign-status merchandise is admitted for a bona fide customs purpose within three years from the month of approval.

Dated: September 6, 2018.
Gary Taverman,
Deputy Assistant Secretary for Antidumping and Countervailing Duty Operations, performing the non-exclusive functions and duties of the Assistant Secretary for Enforcement and Compliance, Alternate Chairman, Foreign-Trade Zones Board.

[FR Doc. 2018-19851 Filed 9-11-18; 8:45 am]

BILLING CODE 3510-DS-P